DEPARTMENT OF LABOR

Employment and Training Administration

[TA-W-56,418A]

Pfaltzgraff Company, Pfaltzgraff Distribution Center Including On-Site Leased Workers From Manpower, Inc. and Adecco York, PA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Negative Determination Regarding Eligibility to Apply for Alternative Trade Adjustment Assistance on February 22, 2005, applicable to workers of Pfaltzgraff Company, Pfaltzgraff Distribution Center, including on-site leased workers from Manpower, Inc. and Adecco, York, Pennsylvania. The notice was published in the Federal Register on March 9, 2005 (70 FR 11704).

At the request of the State agency, the Department reviewed the certification for workers of the subject firm. The workers provide packing and shipping services in direct support of the production of ceramic dinnerware produced at the Thomasville, Pennsylvania (TA-W-56,418) location of the subject firm.

New findings show that there was a previous certification,TA-W-41,917, issued on September 30, 2002, for workers of Pfaltzgraff Company, York, Pennsylvania who were engaged in employment related to the production of ceramic dinnerware. That certification expired September 30, 2004. To avoid an overlap in worker group coverage, the certification is being amended to change the impact date from January 27, 2004 to October 1, 2004, for workers of the subject firm.

The amended notice applicable to TA-W-56,418 is hereby issued as follows:

“All workers of Pfaltzgraff Company, Pfaltzgraff Distribution Center, including on-site leased workers from Manpower, Inc., and Adecco, York Pennsylvania (TA-W-56,418A), who became totally or partially separated from employment on or after October 1, 2004, through February 22, 2007, are eligible to apply for adjustment assistance under Section 223 of the Trade Act of 1974, and are also eligible to apply for alternative trade adjustment assistance under Section 246 of the Trade Act of 1974.”

Signed at Washington, DC this 15th day of March 2005.
Richard Church,
Certifying Officer, Division of Trade Adjustment Assistance.

[FR Doc. E5-1358 Filed 3-25-05; 8:45 am]

BILLING CODE 4510-30-P